DEPARTMENT OF TRANSPORTATION

Federal Aviation Administration

14 CFR Part 71

[Docket No. FAA-2003-15471; Airspace Docket No. 03-AWA-6]

RIN 2120-AA66

Proposed Modification of the Minneapolis Class B Airspace Area; Minneapolis

AGENCY: Federal Aviation Administration (FAA), DOT.

ACTION: Supplemental notice of proposed rulemaking (SNPRM).

SUMMARY: This SNPRM supplements a notice of proposed rulemaking (NPRM) published in the Federal Register on November 24, 2003. In this supplemental notice, the FAA is proposing to modify the previously proposed description of the Minneapolis, MN, Class B airspace area. Specifically, this action proposes to add an additional area that is necessary to contain large turbine-powered aircraft within the Class B airspace area during aircraft operations to the new Runway 17/35 at the Minneapolis-St. Paul International (Wold Chamberlain) Airport (MSP). The proposed modifications would enhance safety and improve the management of increased aircraft operations in the Minneapolis terminal area. Further, this effort supports the FAA's national airspace redesign goal of optimizing terminal and en route airspace areas to reduce aircraft delays and improve system capacity.

DATES: Comments must be received on or before September 12, 2005.

ADDRESSES: Send comments on this proposal to the Docket Management System, U.S. Department of Transportation, Room Plaza 401, 400 Seventh Street, SW., Washington, DC 20590-0001. You must identify both docket numbers, FAA-2003-15471 and Airspace Docket No. 03-AWA-6, at the beginning of your comments. You may also submit comments through the Internet at http://dms.dot.gov.

FOR FURTHER INFORMATION CONTACT: Steve Rohring, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to Docket Nos. FAA-2003-15471 and Airspace Docket No. 03-AWA-6.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office between 9 a.m. and 5 p.m., Monday through Friday, except Federal holidays. An informal docket may also be examined during normal business hours at the office of the Regional Air Traffic Division, Federal Aviation Administration, 2300 East Devon Avenue, Des Plaines, IL 60018.

Persons interested in being placed on a mailing list for future NPRM's should contact the FAA's, Office of Rulemaking, (202) 267-9677, for a copy of Advisory Circular No. 11-2A, Notice of Proposed Rulemaking Distribution System, which describes the application procedure.

Background

On November 24, 2003, the FAA published an NPRM in the Federal Register to modify the Minneapolis Class B airspace area (68 FR 65859). The FAA proposed this modification to address an increase in aircraft operations and accommodate aircraft operations to the new runway (Runway 17/35) at MSP.

Public Input

In response to the NPRM, the Air Line Pilots Association, International and the National Business Aviation Association, Inc. commented that the “southeast cut-out” of the proposed Area E would result in aircraft not being contained in the Class B airspace when operating on the extended final approach course to Runway 35. They suggested reducing the size of the “southeast cut-out” by changing the western boundary of the cut-out from the Gopher 170° radial to the Gopher 160° radial.

The FAA's review of this comment confirmed that the suggested change is needed and also revealed that the floor of the Class B airspace in that area should be lowered from 7,000 feet MSL to 6,000 feet MSL to contain instrument operations to the new Runway 35 within the Class B airspace area. This SNPRM proposes a new area F that would provide the additional area required. Comments already received, other than described above, and comments to this SNPRM will be addressed in the final rule.

Ad Hoc Committee

The ad hoc committee, sponsored by the Minnesota Department of Transportation, Office of Aeronautics, and comprised of representatives from AOPA, EAA, Minnesota Soaring Clubs, International Aerobatics, Ultralight Association, Air National Guard, Life Flight, flight instructors, and skydivers, has reviewed and concurred with the changes proposed herein.

The Proposal

The FAA is proposing an amendment to Title 14 Code of the Federal Regulations (14 CFR) part 71 to modify the MSP Class B airspace area. Specifically, this action (depicted on the attached chart) proposes to expand the upper limits of Area A, Area B, Area C, and Area D from 8,000 feet MSL to and including 10,000 feet MSL; expand the lateral limits of Area D to the northwest and southeast of MSP; and add an Area E and an Area F within 30 NM of the Minneapolis-St. Paul International (Wold-Chamberlain) Airport DME Antenna (I-MSP DME) excluding certain areas to the north and southeast of MSP to improve the containment of turbo-jet aircraft operations within the MSP Class B airspace area.

The following are the proposed revisions for the Minneapolis Class B airspace area:

Area A. The FAA proposes to expand the upper limit of Area A from 8,000 feet MSL to 10,000 feet MSL. The reason for this change is to provide additional airspace needed to ensure that aircraft departing and arriving MSP are contained within the MSP Class B airspace area.

Area B. The FAA proposes to expand the upper limit of Area B from 8,000 feet MSL to 10,000 feet MSL. The reason for this change is to provide additional airspace needed to ensure that aircraft departing and arriving MSP are contained within the MSP Class B airspace area.

Area C. The FAA proposes to expand the upper limit of Area C from 8,000 feet MSL to 10,000 feet MSL. The reason for this change is to provide additional airspace needed to ensure that aircraft departing and arriving MSP are contained within the MSP Class B airspace area.

Area D. The FAA proposes to modify Area D by expanding the upper limit of Area D from 8,000 feet MSL to 10,000 feet MSL and by expanding the boundaries of Area D to the northwest and southeast of MSP, incorporating airspace that lies on the extended ILS localizer course and downwind legs for Runways 12L/30R and 30L/12R, between the I-MSP DME 20-NM and 30-NM arcs. The reason for this change is to provide additional airspace needed to ensure that aircraft vectored for the ILS approaches to the above runways remain within the MSP Class B airspace area.

Area E. The FAA is proposing to add an Area E between the I-MSP DME 20-NM and 30-NM arcs, extending from 7,000 feet MSL to and including 10,000 feet MSL, excluding certain areas to the north and southeast of MSP. The reason for this change is to provide additional airspace needed to ensure that aircraft departing and arriving MSP are contained within the MSP Class B airspace area.

Area F. The FAA is proposing to add an Area F between the I-MSP DME 20-NM and 30-NM arcs from the Gopher 160° radial clockwise to the Gopher 170° radial, extending from 6,000 feet MSL to and including 10,000 feet MSL. The reason for this change is to provide additional airspace needed to ensure that aircraft departing and arriving MSP are contained within the MSP Class B airspace area.

These modifications would improve the management of aircraft operations in the MSP terminal area and enhance safety by expanding the dimensions of the Class B airspace area to protect the aircraft conducting instrument approaches to MSP. Additionally, this proposed action supports various efforts to enhance the efficiency and capacity of the National Airspace System.

The coordinates for this airspace docket are based on North American Datum 83. Class B airspace areas are published in paragraph 3000 of FAA Order 7400.9M, Airspace Designations and Reporting Points, dated August 30, 2004, and effective September 16, 2004, which is incorporated by reference in 14 CFR 71.1. The Class B airspace area listed in this document would be published subsequently in the Order.

Regulatory Evaluation Summary

Changes to Federal regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its circumnavigation costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

The NPRM would modify the Minneapolis-St. Paul, MN, Class B airspace area. The proposed rule would reconfigure the sub-area lateral boundaries, and raise the altitude ceiling in certain segments of the airspace.

The NPRM would generate benefits for system users and the FAA in the form of enhanced operational efficiency and simplified navigation in the MSP terminal area. These modifications would impose some circumnavigation costs on operators of non-compliant aircraft operating in the area around MSP. However, the cost of circumnavigation is considered to be small. Thus, the FAA has determined that the overall benefits generated by this proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some circumnavigation costs on individuals operating in the Minneapolis-St. Paul terminal area; but the proposed rule would not impose any costs on small business entities. Operators of general aviation aircraft are considered individuals, not small business entities and are not included when performing a regulatory flexibility analysis. Flight schools are considered small business entities. However, the FAA assumes that they provide instruction in aircraft equipped to navigate in Class B airspace given they currently provide instruction in the Minneapolis-St. Paul terminal area. Air taxis are also considered small business entities, but are assumed to be properly equipped to navigate Class B airspace because it is part of their current practice. Therefore, these small entities should not incur any additional costs as a result of the proposed rule. Accordingly, pursuant to the Regulatory Flexibility Act, 5 U.S.C. 605(b), the Federal Aviation Administration certifies this rule would not have a significant economic impact on a substantial number of small entities. The FAA solicits comments from affected entities with respect to this finding and determination.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

The proposed rule is not expected to affect trade opportunities for U.S. firms doing business overseas or for foreign firms doing business in the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

Paperwork Reduction Act

In accordance with the Paperwork Reduction Act of 1980 (Pub. L. 96-511), there are no requirements for information collection associated with this proposed rule.

Conclusion

In view of the minimal or zero cost of compliance of the proposed rule and the enhancements to operational efficiency that do not reduce aviation safety, the FAA has determined that the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designations and Reporting Points, dated August 30, 2004, and effective September 16, 2004, is amended as follows:

Paragraph 3000—Class B Airspace.

* * * * *

AGL MN B Minneapolis-St. Paul, MN (Revised)

Minneapolis-St. Paul International (Wold-Chamberlain) Airport (Primary Airport)

(Lat. 44°53′00″ N., long. 93°13′01″ W.)

Gopher VORTAC

(Lat. 45°08′45″ N., long. 93°22′24″ W.)

Flying Cloud VOR/DME

(Lat. 44°49′33″ N., long. 93°27′24″ W.)

Point of Origin: Minneapolis-St. Paul International (Wold-Chamberlain) Airport DME Antenna (I-MSP DME)

(Lat. 44°52′28″ N., long. 93°12′24″ W.)

Boundaries

Area A. That airspace extending upward from the surface to and including 10,000 feet MSL within a 6-mile radius of I-MSP DME.

Area B. That airspace extending from 2,300 feet MSL to and including 10,000 feet MSL within an 8.5-mile radius of I-MSP DME, excluding Area A previously described.

Area C. That airspace extending from 3,000 feet MSL to and including 10,000 feet MSL within a 12-mile radius of I-MSP DME, excluding Area A and Area B previously described.

Area D. That airspace extending from 4,000 feet MSL to and including 10,000 feet MSL within a 20-mile radius of I-MSP DME and including that airspace within a 30-mile radius from the Flying Cloud 295° radial clockwise to the Gopher 295° radial and from the Gopher 115° radial clockwise to the Flying Cloud 115° radial, excluding Area A, Area B, and Area C previously described.

Area E. That airspace extending from 7,000 feet MSL to and including 10,000 feet MSL within a 30-mile radius of I-MSP DME from the Gopher 295° radial clockwise to the Gopher 352° radial, and from the Gopher 085° radial clockwise to the Gopher 115° radial, and from the Flying Cloud 115° radial clockwise to the Gopher 160° radial, and from the Gopher 170° radial clockwise to the Flying Cloud 295° radial excluding that airspace between a 25-mile radius and a 30-mile radius of I-MSP DME from the Flying Cloud 115° radial clockwise to the Gopher 160° radial, and excluding Area A, Area B, Area C, and Area D previously described.

Area F. That airspace extending from 6,000 feet MSL to and including 10,000 feet MSL within a 30-mile radius of I-MSP DME from the Gopher 160° radial clockwise to the Gopher 170° radial, excluding Area A, Area B, Area C, and Area D previously described.

* * * * *

Issued in Washington, DC, on July 22, 2005.
Edith V. Parish,
Acting Manager, Airspace and Rules.

BILLING CODE 4910-13-P

[FR Doc. 05-14976 Filed 7-28-05; 8:45 am]

BILLING CODE 4910-13-C